ENVIRONMENTAL PROTECTION AGENCY

40 CFR Part 52

[EPA-R03-OAR-2011-0603; FRL-9470-7]

Approval and Promulgation of Air Quality Implementation Plans; Delaware; Amendments to the Control of Volatile Organic Compound Emissions From Offset Lithographic Printing and Letterpress Printing

AGENCY: Environmental Protection Agency (EPA).

ACTION: Proposed rule.

SUMMARY: EPA is proposing to approve a State Implementation Plan (SIP) revision submitted by the State of Delaware. This SIP revision amends the control of volatile organic compound (VOC) emissions from offset lithographic printing and letterpress printing. This action is being taken under the Clean Air Act (CAA).

DATES: Written comments must be received on or before October 24, 2011.

ADDRESSES: Submit your comments, identified by Docket ID Number EPA-R03-OAR-2011-0603 by one of the following methods:

A. http://www.regulations.gov. Follow the on-line instructions for submitting comments.

B. E-mail: fernandez.cristina@epa.gov.

C. Mail: EPA-R03-OAR-2011-0603, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0603. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Delaware Department of Natural Resources and Environmental Control, 89 Kings Highway, P.O. Box 1401, Dover, Delaware 19903.

FOR FURTHER INFORMATION CONTACT: Rose Quinto, (215) 814-2182, or by e-mail at quinto.rose@epa.gov.

SUPPLEMENTARY INFORMATION: On May 25, 2011, the Delaware Department of Natural Resources and Environmental Control (DNREC) submitted a SIP revision that amends the control of VOC emissions from offset lithographic printing and letterpress printing (7 DE Admin Code 1124, Section 47.0). The purpose of this SIP revision is to conform to the new Control Techniques Guidelines (CTG) issued by EPA.

I. Background

Section 182(b)(2) of the CAA requires all ozone nonattainment areas, including Delaware, to update relevant regulations for reasonably available control technology (RACT) controls for emission sources covered by EPA's CTG and to submit the regulations to EPA as SIP revisions. Section 47.0 (Offset Lithographic Printing) under 7 DE Admin Code 1124 (Control of VOC Emissions) was originally developed in 1994 after EPA issued a CTG in 1993 for the control of VOC emissions from the offset lithographic printing industry. (See docket EPA-HQ-OAR-2006-0536 for the 1993 CTG and 62 FR 26399, May 14, 1997 for 7 DE Admin Code 1124, Section 47.0). In September 2006 (EPA-453/R-06-002), EPA updated its CTG for the offset lithographic printing industry by adding control requirements for letterpress printing operations. DNREC revised Section 47.0 (Offset Lithographic Printing and Letterpress Printing) in early 2010 to reflect the new requirements in EPA's 2006 CTG.

II. Summary of SIP Revision

DNREC's SIP revision to Section 47.0 that was submitted on May 25, 2011, expands the control of VOC emissions to include letterpress printing presses and set up a new and more stringent 95 percent reduction standard for those control systems installed after April 11, 2011 (effective date of the SIP revision). Amendments to Section 47.0 also include specifying a one-year transition period for facilities to comply with the new requirements and providing flexibility for facilities to locate unspecified temperature monitoring devices for control systems. A detailed summary of EPA's review and rationale for proposing to approve this SIP revision may be found in the Technical Support Document (TSD) for this action which is available on line at http://www.regulations.gov, Docket number EPA-R03-OAR-2011-0603.

III. Proposed Action

EPA is proposing to approve the Delaware SIP revision for the control of VOC emissions from offset lithographic printing and letterpress printing (7 DE Admin Code 1124, Section 47.0) submitted on May 25, 2011. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Delaware's offset lithographic printing and letterpress printing, does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Ozone, Reporting and recordkeeping requirements, Volatile organic compounds.

Authority: 42 U.S.C. 7401 et seq.

Dated: September 6, 2011.
James W. Newsom,
Acting, Regional Administrator, Region III.

[FR Doc. 2011-24521 Filed 9-22-11; 8:45 am]

BILLING CODE 6560-50-P